ENVIRONMENTAL PROTECTION AGENCY

[FRL 11979-01-R1]

Notice of Availability of Draft NPDES New Hampshire Medium Wastewater Treatment Facility General Permit

AGENCY: Environmental Protection Agency (EPA).

ACTION: Notice of Availability of Draft NPDES General Permit NHG590000.

SUMMARY: The Director of the Water Division, U.S. Environmental Protection Agency—Region 1 (EPA), is providing a Notice of Availability for the Draft National Pollutant Discharge Elimination System (NPDES) New Hampshire Medium Wastewater Treatment Facility General Permit (NH Medium WWTF GP) for discharges to certain Class B waters of the State of New Hampshire. This Draft NPDES NH Medium WWTF GP (“Draft General Permit”) establishes effluent limitations and requirements, effluent and ambient monitoring requirements, reporting requirements, and standard conditions for 21 eligible facilities that are currently covered by individual NPDES permits (see Attachment E of the Draft General Permit for a list of eligible WWTFs). The Draft General Permit is available on EPA Region 1's website at https://www.epa.gov/npdes-permits/region-1-draft-new-hampshire-medium-wastewater-treatment-facility-general-permit. The Fact Sheet for the Draft General Permit sets forth principal facts and the significant factual, legal, methodological, and policy questions considered in the development of the Draft General Permit and is also available at this website.

DATES: Comments must be received on or before January 13, 2025.

ADDRESSES: Written comments on the Draft General Permit may be mailed to U.S. EPA Region 1, Water Division, Attn: Michael Cobb, 5 Post Office Square, Suite 100, Mail Code 06-4, Boston, Massachusetts 02109-3912, or sent via email to: Cobb.Michael@epa.gov. If comments are submitted in hard copy form, please also email a copy to the EPA contact above.

FOR FURTHER INFORMATION CONTACT: Additional information concerning the Draft General Permit may be obtained from Michael Cobb, U.S. EPA Region 1, Water Division, 5 Post Office Square, Suite 100, Mail Code 06-4, Boston, MA 02109-3912; telephone: 617-918-1369; email: Cobb.Michael@epa.gov. Any documents that are part of the administrative record can be requested from the EPA contact above.

SUPPLEMENTARY INFORMATION:

Public Comment Information: Interested persons may submit written comments on the Draft General Permit to EPA Region 1 at the address listed above. In reaching a final decision on this Draft General Permit, the Regional Administrator will respond to all significant comments and make responses available to the public on EPA Region 1's website. All comments must be postmarked or delivered electronically by the close of the public comment period.

General Information: The Draft General Permit includes effluent limitations and requirements for eligible facilities based on technology and/or water quality considerations of the unique discharges from these facilities. The effluent limits established in the Draft General Permit ensure that the surface water quality standards of the receiving water(s) will be attained and/or maintained.

Obtaining Authorization: To obtain coverage under the General Permit, facilities meeting the eligibility requirements outlined in part I of this General Permit may submit a notice of intent (NOI) in accordance with part III of this General Permit and 40 CFR 122.28(b)(2)(i) and (ii). The contents of the NOI shall include at a minimum, the legal name and address of the owner or operator, the facility name and address, type of facility or discharges, the receiving stream(s) and be signed by the operator in accordance with the signatory requirements of 40 CFR 122.22. Alternately, based on 40 CFR 122.28(b)(2)(vi), the Director may notify a discharger that it is covered by a general permit, even if the discharger has not submitted an NOI to be covered. EPA has determined that the facilities identified in Attachment E of the Draft General Permit all meet the eligibility requirements for coverage under the Draft General Permit and may be authorized to discharge under the General Permit by this type of notification.

Other Legal Requirements: Endangered Species Act (ESA): In accordance with the ESA, EPA has updated the provisions and necessary actions and documentation related to potential impacts to endangered species from WWTFs seeking coverage under the Draft General Permit. Concurrently with the public notice of the Draft General Permit, EPA will initiate an informal consultation with the National Oceanic and Atmospheric Administration, National Marine Fisheries Service (NOAA Fisheries) under ESA section 7, through the submission of a letter and biological assessment (BA) summarizing the results of EPA's assessment of the potential effects to endangered and threatened species and their critical habitats under NOAA Fisheries jurisdiction as a result of EPA's issuance of the Draft General Permit. In this document, EPA has made a preliminary determination that the proposed issuance of the Draft General Permit may affect, but is not likely to adversely affect the shortnose sturgeon, Atlantic sturgeon, or designated Atlantic sturgeon critical habitat (Gulf of Maine Unit 4: Piscataqua River), as well as coastal protected sea turtles, whales, or designated North Atlantic right whale critical habitat (Northeastern U.S Foraging Area Unit 1). EPA will request that NOAA Fisheries review this submittal and inform EPA whether it concurs with this preliminary finding.

EPA will also assess ESA threatened or endangered shore birds and terrestrial species under the jurisdiction of USFWS and a preliminary determination will be submitted to USFWS concurrently with the public notice of the Draft General Permit where appropriate. EPA has concluded that the NH Medium WWTF GP is consistent with activities analyzed in the USFWS Service's Information for Planning and Consultation (IPaC) standing analysis and Range-wide Northern Long-eared Bat Determination Key for the endangered northern long-eared bat. EPA made a similar determination regarding the proposed endangered tricolored bat.

Essential Fish Habitat (EFH): Under the 1996 Amendments (Pub. L. 104-267) to the Magnuson-Stevens Fishery Conservation and Management Act (16 U.S.C. 1801 et seq. (1998)), EPA is required to consult with NOAA Fisheries if EPA's actions or proposed actions that it funds, permits or undertakes “may adversely impact any essential fish habitat.” 16 U.S.C. 1855(b). EPA has determined that the permit action may adversely affect the EFH of designated species. The Draft General Permit has been conditioned to minimize any impacts that reduce the quality and/or quantity of EFH. Additional mitigation is not warranted under section 305(b)(2) of the Magnuson-Stevens Act. Concurrent with the public notice of the Draft General Permit, EPA will initiate consultation with NOAA Fisheries by providing this determination for their review.

National Historic Preservation Act (NHPA): Facilities which adversely affect properties listed or eligible for listing in the National Registry of Historic Places under the NHPA are not authorized to discharge under the Draft General Permit. Based on the nature and location of the discharges, EPA has determined that all facilities eligible for authorization under the Draft General Permit do not have the potential to affect a property that is either listed or eligible for listing on the National Register of Historic Places.

Coastal Zone Management Act (CZMA): The CZMA, 16 U.S.C. 1451 et seq., and its implementing regulations (15 CFR part 930) require a determination that any federally licensed activity affecting the coastal zone with an approved Coastal Zone Management Program (CZMP) is consistent with the CZMA. Concurrent with the public notice of the Draft General Permit, EPA will request that the New Hampshire Coastal Program, NHCP, provide a consistency concurrence that the proposed Draft General Permit is consistent with the NH CZMPs.

Authority: This action is being taken under the Clean Water Act, 33 U.S.C. 1251 et seq.

David Cash,
Regional Administrator, EPA Region 1.

[FR Doc. 2024-26247 Filed 11-12-24; 8:45 am]

BILLING CODE 6560-50-P